NUCLEAR REGULATORY COMMISSION

[Docket No. 50-245]

Dominion Nuclear Connecticut, Inc.; Millstone Power Station Unit 1 Partial Exemption From Requirements

1.0 Background

Dominion Nuclear Connecticut, Inc. (Dominion, the licensee) is the licensee and holder of Facility Operating License No. DPR-21 for the Millstone Power Station Unit 1 (Millstone Unit 1), a permanently shutdown decommissioning nuclear plant. Although permanently shutdown, this facility is still subject to all rules, regulations, and orders of the U.S. Nuclear Regulatory Commission (NRC).

Millstone Unit 1 was a single-cycle, boiling water reactor with a Mark I containment which was designed, furnished and constructed by General Electric Company as prime contractor for the licensee. Millstone Unit 1 had a reactor thermal output of 2011 megawatts and a net electrical output of 652.1 megawatts. The Millstone site is located in the town of Waterford, New London County, Connecticut, on the north shore of Long Island Sound.

Construction of Millstone Unit 1 was authorized by a provisional construction permit CPPR-20, on May 19, 1966, in AEC Docket 50-245. Millstone Unit 1 was completed and ready for fuel loading during October 1970. The plant went into commercial operation on December 28, 1970. On July 21, 1998, pursuant to 10 CFR 50.82(a)(1)(i) and 10 CFR 50.82(a)(1)(ii), the licensee certified to the NRC that, as of July 17, 1998, Millstone Unit No. 1 had permanently ceased operations and that fuel had been permanently removed from the reactor vessel. The issuance of this certification fundamentally changed the licensing basis of Millstone Unit 1 in that the NRC issued 10 CFR Part 50 license no longer authorizes operation of the reactor or emplacement or retention of fuel in the reactor vessel.

Safety related structures, systems, and components (SSCs) and SSCs important to safety remaining at Millstone Unit 1 are associated with the spent fuel pool island where the Millstone Unit 1 spent fuel is stored. Other than non-essential systems supporting the balance of plant facilities, the remaining plant equipment has been de-energized, disabled and abandoned in place or removed from the unit and can no longer be used for power generation.

2.0 Request/Action

By letter dated June 8, 2006, Dominion is requesting an exemption from the record retention requirements of: 10 CFR 50.59(d)(3) which requires certain records be maintained until termination of a license issued pursuant to Part 50; 10 CFR 50.71(c) which requires records required by the regulations, by license condition, or by technical specifications must be retained for the period specified by the appropriate regulation, license condition, or technical specification and if a retention period is not otherwise specified, these records must be retained until the Commission terminates the facility license; 10 CFR 50 Appendix A Criterion 1 which requires certain records be retained throughout the life of the unit; and 10 CFR 50 Appendix B Criterion XVII which requires certain records be retained consistent with regulatory requirements for a duration established by the licensee.

Dominion proposes to eliminate record retention requirements for Millstone Unit 1 SSCs associated with safe power generation that have been de-energized, disabled, and abandoned in place or removed from the unit. Dominion is not requesting an exemption associated with record keeping requirements for storage of spent fuel in the Millstone Unit 1 spent fuel pool or for systems required to support the safe storage of spent fuel.

3.0 Discussion

The records that the licensee proposes to eliminate are for SSCs associated with safe power generation that have been de-energized, disabled, and abandoned in place or removed from the unit. Examples of such records include procedures, strip charts, other recorder charts, and radiographs. Disposal of these records will not adversely impact the ability to meet other NRC regulatory requirements for the retention of records [e.g., 10 CFR 50.54(a), (p), (q), and (bb); 10 CFR 50.59(d); 10 CFR 50.75(g); etc.]. These regulatory requirements ensure that records from operation and decommissioning activities are maintained for safe decommissioning, spent nuclear fuel storage, completion and verification of final site survey, and license termination.

Specific Exemption Is Authorized by Law

10 CFR 50.71(d)(2) allows for the granting of specific exemptions to the record retention requirements specified in the regulations.

NRC regulation 10 CFR 50.71(d)(2) states, in part:

* * * the retention period specified in the regulations in this part for such records shall apply unless the Commission, pursuant to § 50.12 of this part, has granted a specific exemption from the record retention requirements specified in the regulations in this part.

Based on 10 CFR 50.71(d)(2), if the specific exemption requirements of 10 CFR 50.12 are satisfied, the exemption from the record keeping requirements of 10 CFR 50.59(d)(3); 10 CFR 50.71(c); 10 CFR Part 50, Appendix A, Criterion 1; and 10 CFR Part 50, Appendix B, Criterion XVII, is authorized by law.

Specific Exemption Will Not Present an Undue Risk to the Public Health and Safety

The partial exemption from the record keeping requirements of 10 CFR 50.59(d)(3); 10 CFR 50.71(c); 10 CFR Part 50, Appendix A, Criterion 1; and 10 CFR Part 50, Appendix B, Criterion XVII, for the records described above is administrative in nature and will have no impact on any remaining decommissioning activities or on radiological effluents. The exemption will merely advance the schedule for destruction of the specified records. Considering the content of these records, the elimination of these records on an advanced timetable will have no reasonable possibility of presenting any undue risk to the public health and safety.

Specific Exemption Consistent With the Common Defense and Security

The partial exemption from the record keeping requirements of 10 CFR 50.59(d)(3); 10 CFR 50.71(c); 10 CFR Part 50, Appendix A, Criterion 1; and 10 CFR Part 50, Appendix B, Criterion XVII, for the types of records described above is consistent with the common defense and security as defined in the Atomic Energy Act (42 U.S.C. 2014, Definitions) and in 10 CFR 50.2 “Definitions.”

The partial exemption requested does not impact remaining decommissioning activities and does not involve information or activities that could potentially impact the common defense and security of the United States.

Rather, the exemption requested is administrative in nature and would merely advance the current schedule for destruction of the specified records. Considering the content of these records, the elimination of these records on an advanced timetable has no reasonable possibility of having any impact on national defense or security. Therefore, the partial exemption from the recordkeeping requirements of 10 CFR 50.59(d)(3); 10 CFR 50.71(c); 10 CFR Part 50, Appendix A, Criterion 1; and 10 CFR Part 50, Appendix B, Criterion XVII, for the types of records described above is consistent with the common defense and security.

Special Circumstances

NRC regulation 10 CFR 50.12(a)(2) states, in part:

“(2) The Commission will not consider granting an exemption unless special circumstances are present. Special circumstances are present whenever—

(ii) Application of the regulation in the particular circumstances would not serve the underlying purpose of the rule or is not necessary to achieve the underlying purpose of the rule.”

Given the status of Millstone Unit 1 decommissioning, special circumstances exist which will allow the NRC to consider granting the partial exemption requested. Consistent with 10 CFR 50.12(a)(2)(ii), applying the recordkeeping requirements of 10 CFR 50.59(d)(3); 10 CFR 50.71(c); 10 CFR Part 50, Appendix A, Criterion 1; and 10 CFR Part 50, Appendix B, Criterion XVII, to the continued storage of the records described previously is not necessary to achieve the underlying purpose of the rules.

The NRC's Statements of Consideration for final rulemaking, effective July 26, 1988 (53 FR 19240 dated May 27, 1988) “Retention Periods for Records,” provides the underlying purpose of the regulatory record keeping requirements. In response to several public comments leading up to this final rulemaking, the NRC supported the need for record retention requirements by stating that records: “* * * must be retained * * * so that they will be available for examination by the Commission in any analysis following an accident, incident, or other problem involving public health and safety * * * [and] * * * for NRC to ensure compliance with the safety and health aspects of the nuclear environment and for the NRC to accomplish its mission to protect the public health and safety.”

The underlying purpose of the subject record keeping regulations is to ensure that the NRC staff has access to information that, in the event of an accident, incident, or condition that could impact public health and safety, would assist in the recovery from such an event and could also help prevent future events or conditions that could adversely impact public health and safety.

Given the current status of Millstone Unit 1 decommissioning, the records that would be subject to early destruction would not provide the NRC with information that would be pertinent or useful. The types of records that would fall under the exemption would include radiographs, vendor equipment technical manuals, and recorder charts associated with operating nuclear power plant SSCs that had been classified as important to safety during power operations, but that are no longer classified as important to safety, are no longer operational, or have been removed from the Millstone Unit 1 site for disposal.

As indicated in the excerpts cited above under the heading “NRC Regulatory record keeping Requirements to be Exempted,” the regulations include wording that states that records of activities involving the operation, design, fabrication, erection, and testing of SSCs that are classified as quality-related and/or important to safety should be retained “until the Commission terminates the facility license” or “throughout the life of the unit.”

As stated in 10 CFR Part 50, Appendix A:

“A nuclear power unit means a nuclear power reactor and associated equipment necessary for electric power generation and includes those structures, systems, and components required to provide reasonable assurance the facility can be operated without undue risk to the health and safety of the public.”

With the majority of the plant systems formerly supporting power operations at Millstone Unit 1, having been de-energized, disabled, abandoned in place or removed from the site, the Millstone Unit 1 site no longer houses a nuclear power reactor and associated equipment necessary for electric power generation. Thus, with respect to the underlying intent of the record keeping rules cited above, Millstone Unit 1 is not able to generate electricity and is no longer a nuclear power unit as defined in 10 CFR Part 50, Appendix A.

All of the Millstone Unit 1 spent nuclear fuel has been transferred to the spent fuel pool and the required support systems related to safely storing the spent nuclear fuel have been isolated to a spent fuel pool island. The records related to this activity are still required by the regulations and the licensee specified that they were “* * * not requesting an exemption associated with record keeping requirements for storage of spent fuel in the [Millstone Unit 1] spent fuel pool or for systems required to support the safe storage of spent fuel.”

Based on the above, it is clear that application of the subject record keeping requirements to the Millstone Unit 1 records specified above is not required to achieve the underlying purpose of the rule. Thus, special circumstances are present which the NRC may consider, pursuant to 10 CFR 50.12(a)(2)(ii), to grant the requested exemption.

4.0 Conclusion

The staff has determined that 10 CFR 50.71(d)(2) allows the Commission to grant specific exemptions to the record retention requirements specified in regulations provided the requirements of 10 CFR 50.12 are satisfied.

The staff has determined that the requested partial exemption from the record keeping requirements of 10 CFR 50.59(d)(3); 10 CFR 50.71(c); 10 CFR Part 50, Appendix A, Criterion 1; and 10 CFR Part 50, Appendix B, Criterion XVII, will not present an undue risk to the public health and safety. The destruction of the identified records will not impact remaining decommissioning activities; plant operations, configuration, and/or radiological effluents; operational and/or installed SSCs that are quality-related or important to safety; or nuclear security.

The staff has determined that the destruction of the identified records is administrative in nature and does not involve information or activities that could potentially impact the common defense and security of the United States.

The staff has determined that the purpose for the record keeping regulations is to ensure that the NRC Staff has access to information that, in the event of any accident, incident, or condition that could impact public health and safety, would assist in the protection of public health and safety during recovery from the given accident, incident, or condition, and also could help prevent future events or conditions adversely impacting public health and safety.

Further, since most of the Millstone Unit 1 SSCs that were safety-related or important-to-safety have been de-energized, disabled, abandoned in place or removed form the site, the staff agrees that the records identified in the partial exemption would not provide the NRC with useful information during an investigation of an accident or incident.

Therefore, the Commission grants Dominion the requested partial exemption to the record keeping requirements of 10 CFR 50.59(d)(3); 10 CFR 50.71(c); 10 CFR Part 50, Appendix A, Criterion 1; and 10 CFR Part 50, Appendix B, Criterion XVII, as described in the June 8, 2006, letter.

Pursuant to 10 CFR Part 51.31, the Commission has determined that the granting of this exemption will not have a significant effect on the quality of the human environment as documented in Federal Register notice Vol. 72, No. 4048, dated January 29, 2007.

This exemption is effective upon issuance.

Dated at Rockville, Maryland this 30th day of January, 2007.
For the Nuclear Regulatory Commission.
Keith I. McConnell,
Deputy Director, Decommissioning and Uranium Recovery, Licensing Directorate, Division of Waste Management and Environmental Protection, Office of Federal and State Materials and Environmental Management Program.

[FR Doc. E7-2036 Filed 2-6-07; 8:45 am]

BILLING CODE 7590-01-P